NATIONAL AERONAUTICS AND SPACE ADMINISTRATION

[Notice: (16-024)]

Applied Sciences Advisory Committee; Meeting.

AGENCY: National Aeronautics and Space Administration.

ACTION: Notice of meeting.

SUMMARY: In accordance with the Federal Advisory Committee Act, Public Law 92-463, as amended, the National Aeronautics and Space Administration (NASA) announces a meeting of the Applied Sciences Advisory Committee (ASAC). This Committee functions in an advisory capacity to the Director, Earth Science Division, in the NASA Science Mission Directorate. The meeting will be held for the purpose of soliciting, from the applied sciences community and other persons, scientific and technical information relevant to program planning.

DATE: Tuesday, April 19, 2016, 11:00 a.m. to 2:00 p.m., Eastern Daylight Time (EDT).

FOR FURTHER INFORMATION CONTACT: Ms. Ann Delo, Science Mission Directorate, NASA Headquarters, Washington, DC 20546, (202) 358-0750, fax (202) 358-2779, or ann.b.delo@nasa.gov.

SUPPLEMENTARY INFORMATION: This meeting will be open to the public telephonically and by WebEx. You must use a touch-tone phone to participate in this meeting. Any interested person may dial the USA toll free conference call number 1-844-467-4685, passcode 635840, followed by the # sign, to participate in this meeting by telephone. The WebEx link is https://nasa.webex.com/; the meeting number is 995 194 812 and the password is @April19.

The agenda for the meeting includes the following topics:

• Overview of 2016 Applied Sciences Program Budget.

• Continuity Study.

• Status of User Working Groups and Science Teams.

• Update on Status of Decadal Survey.

It is imperative that the meeting be held on this date to accommodate the scheduling priorities of the key participants.

Patricia D. Rausch,
Advisory Committee Management Officer, National Aeronautics and Space Administration.

[FR Doc. 2016-06461 Filed 3-22-16; 8:45 am]

BILLING CODE 7510-13-P